DEPARTMENT OF THE INTERIOR

Bureau of Ocean Energy Management, Regulation and Enforcement

[Docket ID: BOEM-2011-0011; OMB Number 1010-0151]

Information Collection Activities; Plans and Information; Submitted for OMB Review; Comment Request

ACTION: 30-day notice.

SUMMARY: To comply with the Paperwork Reduction Act of 1995 (PRA), we are notifying the public that we have submitted to OMB an information collection request (ICR) to renew approval of the paperwork requirements in the regulations under Subpart B, Plans and Information, and related documents. This notice also provides the public a second opportunity to comment on the paperwork burden of these regulatory requirements.

DATES: Submit written comments by October 31, 2011.

ADDRESSES: Submit comments by either fax (202) 395-5806 or e-mail (OIRA_DOCKET@omb.eop.gov) directly to the Office of Information and Regulatory Affairs, OMB, Attention: Desk Officer for the Department of the Interior (1010-0151). Please also submit a copy of your comments to BOEMRE by any of the means below.

• Electronically: go to http://www.regulations.gov. In the entry titled, “Enter Keyword or ID,” enter BOEM-2011-0011 then click search. Follow the instructions to submit public comments and view supporting and related materials available for this collection. BOEMRE will post all comments.

• E-mail cheryl.blundon@boemre.gov. Mail or hand-carry comments to: Department of the Interior; Bureau of Ocean Energy Management, Regulation and Enforcement; Attention: Cheryl Blundon; 381 Elden Street, MS-4024; Herndon, Virginia 20170-4817. Please reference ICR 1010-0151 in your comment and include your name and return address.

FOR FURTHER INFORMATION CONTACT: Cheryl Blundon, Regulations and Standards Branch, (703) 787-1607. To see a copy of the entire ICR submitted to OMB, go to http://www.reginfo.gov (select Information Collection Review, Currently Under Review). You may also contact Cheryl Blundon to obtain a copy, at no cost, of the regulations and forms that require the subject collection of information.

SUPPLEMENTARY INFORMATION: Title: 30 CFR 250, Subpart B, Plans and Information.

Forms: BOEMRE forms 0137, 0138, 0139, 0141, and 0142.

OMB Control Number: 1010-0151.

Abstract: The Outer Continental Shelf (OCS) Lands Act, as amended (43 U.S.C. 1331 et seq. and 43 U.S.C. 1801 et seq.), authorizes the Secretary of the Interior to prescribe rules and regulations to administer leasing of mineral resources on the OCS. Such rules and regulations will apply to all operations conducted under a lease, right-of-use and easement, or unit. Sections 11 and 25 of the amended OCS Lands Act require the holders of OCS oil and gas or sulphur leases to submit exploration plans (EPs) and development and production plans (DPPs) to the Secretary for approval prior to commencing these activities. As a Federal agency, we have a continuing affirmative duty to comply with the Endangered Species Act (ESA). This includes a substantive duty to carry out any agency action in a manner that is not likely to jeopardize protected species as well as a procedural duty to consult with the Fish and Wildlife Service (FWS) and National Oceanic and Atmospheric Administration Fisheries (NOAA Fisheries) before engaging in a discretionary action that may affect a protected species.

The Independent Offices Appropriations Act (31 U.S.C. 9701), the Omnibus Appropriations Bill (Pub. L. 104-133, 110 Stat. 1321, April 26, 1996), and OMB Circular A-25, authorize Federal agencies to recover the full cost of services that confer special benefits. Several requests for approval required in subpart B are subject to cost recovery, and BOEMRE regulations specify service fees for these requests.

Regulations implementing these responsibilities are under 30 CFR part 250, subpart B. Responses are mandatory. No questions of a sensitive nature are asked. BOEMRE will protect information considered proprietary under the Freedom of Information Act (5 U.S.C. 552), under regulations at 30 CFR 250.197, “Data and information to be made available to the public or for limited inspection,” and 30 CFR part 252, “Outer Continental Shelf (OCS) Oil and Gas Information Program.”

BOEMRE and other Federal agencies (e.g., FWS, NOAA Fisheries, etc.) analyze and evaluate the information and data collected under subpart B to ensure that planned operations are safe; will not adversely affect the marine, coastal, or human environment; and will conserve the resources of the OCS. We use the information to: (a) Make an informed decision on whether to approve the proposed exploration or development and production plans as submitted, or whether modifications are necessary without the analysis and evaluation of the required information. The affected States also review the information collected to determine consistency with approved Coastal Zone Management (CZM) plans, and (b) report annually to NOAA Fisheries the effectiveness of mitigation, any adverse effects of the proposed action, and any incidental take, in accordance with 50 CFR 402.14(i)(3).

Respondents are required to submit several BOEMRE forms: 0137 (Plan Information Form) is submitted to summarize plan information and we use the information to assist in data entry and review of submitted OCS plans; 0138 (GOM Air Emission Calculations for Exploration Plans), and, 0139 (GOM Air Emission Calculations for Development Operations Coordination Documents (DOCDs)) are submitted to standardize the way potential air emissions are estimated and approved as part of the OCS plan. BOEMRE uses the data from these forms to determine the effect of air emissions on the environment; 0141 (ROV Survey Report) is submitted to report the observations and information recorded from two sets of ROV monitoring surveys to identify high-density benthic communities that may occur on the seafloor in deep water; and 0142 (Environmental Impact Analysis Worksheet) is submitted to identify the environmental impact-producing factors (IPFs) for the listed environmental resources. We use the information to help assess impacts and determine compliance with the National Environmental Policy Act.

Also, per Secretarial Orders 3299 and 3022, on October 1, 2011, the oil, gas, and renewable energy-related management functions of BOEMRE will be transferred to a new bureau, Bureau of Ocean Energy Management (BOEM). Therefore, after October 1, the forms associated with this collection will be designated as BOEM forms; e.g., BOEMRE Form 0137 will be designated as BOEM-0137.

Frequency: On occasion, semi-monthly, and varies by section.

Description of Respondents: Potential respondents comprise Federal oil, gas, or sulphur lessees and/or operators.

Estimated Reporting and Recordkeeping Hour Burden: The estimated annual hour burden for this information collection is a total of 190,480 hours. The following chart details the individual components and estimated hour burdens. In calculating the burdens, we assumed that respondents perform certain requirements in the normal course of their activities. We consider these to be usual and customary and took that into account in estimating the burden.

BILLING CODE 4310-MR-P

BILLING CODE 4310-MR-C

Estimated Reporting and Recordkeeping Non-Hour Cost Burden: We have identified four non-hour costs associated with this information collection that are cost recovery fees. They consist of fees being submitted with EP's ($3,442), DPP's or DOCD's ($3,971), DWOP's ($3,336), and CID's ($25,629). There is also one non-hour cost burden associated with the Protected Species Observer Program. The cost associated with this program is due to observation activities that are usually subcontracted to other service companies with expertise in these areas. Since all of the observation duty and reporting would be done while on the vessel and by contractors, these requirements were calculated as non-hour cost burdens. We estimate that the annual total non-hour cost burden is $3,597,157, and we have not identified any other non-hour cost burdens associated with this collection of information.

Public Disclosure Statement: The PRA (44 U.S.C. 3501, et seq.) provides that an agency may not conduct or sponsor a collection of information unless it displays a currently valid OMB control number. Until OMB approves a collection of information, you are not obligated to respond.

Comments: Section 3506(c)(2)(A) of the PRA (44 U.S.C. 3501, et seq.) requires each agency “* * * to provide notice * * * and otherwise consult with members of the public and affected agencies concerning each proposed collection of information * * *”. Agencies must specifically solicit comments to: (a) Evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology.

To comply with the public consultation process, on July 6, 2011, we published a Federal Register notice (76 FR 39419) announcing that we would submit this ICR to OMB for approval. The notice provided the required 60-day comment period. In addition, § 250.199 provides the OMB control number for the information collection requirements imposed by the 30 CFR 250 regulations and form. The regulation also informs the public that they may comment at any time on the collections of information and provides the address to which they should send comments. We received two comments in response to the Federal Register notice. The first comment, from the Marine Mammal Commission, supported our request to OMB. The second comment, from the Center for Regulatory Effectiveness, requested that we should state that we are not submitting any ICRs for seismic regulations that are more stringent than current regulations, including NTL 2007-G02. Response: For the renewal of this ICR, we are not requesting anything more stringent than in current NTL 2007-G02 and 30 CFR part 250, subpart B regulations, which are covered under OMB Control Number 1010-0151. We have no plans, at this time, to change the content of or the resultant burdens imposed by NTL 2007-G02. Therefore, BOEMRE should move forward with the required information collection to ensure compliance with OMB deadlines. If the lawsuit settlement or resulting decree requires changes to the NTL and/or DOI regulations, information collection coordination and OMB approval will occur before any NTL is reissued or regulations are promulgated.

If you wish to comment in response to this notice, you may send your comments to the offices listed under the ADDRESSES section of this notice. The OMB has up to 60 days to approve or disapprove the information collection but may respond after 30 days. Therefore, to ensure maximum consideration, OMB should receive public comments by October 31, 2011.

Public Availability of Comments: Before including your address, phone number, e-mail address, or other personal identifying information in your comment, you should be aware that your entire comment—including your personal identifying information—may be made publicly available at any time. While you can ask us in your comment to withhold your personal identifying information from public review, we cannot guarantee that we will be able to do so.

BOEMRE Information Collection Clearance Officer: Arlene Bajusz (703) 787-1025.

Dated: September 22, 2011.
Amy C. White,
Acting Chief, Office of Offshore Regulatory Programs.

[FR Doc. 2011-25262 Filed 9-29-11; 8:45 am]

BILLING CODE 4310-MR-P